DEPARTMENT OF TRANSPORTATION

Federal Aviation Administration

[Docket No. FAA-2003-15495]

Weight-Based Restrictions at Airports: Proposed Policy

Correction

In notice document 03-16462 beginning on page 39176 in the issue of Tuesday, July 1, 2003 make the following correction:

On page 39177, in the second column, under paragraph 5., in the fourth line, “and unjustly” should read “and not unjustly”.

[FR Doc. C3-16462 Filed 7-7-03; 8:45 am]

BILLING CODE 1505-01-D